DEPARTMENT OF ENERGY

Federal Energy Regulatory Commission

[Docket No. EF02-2021-000]

Bonneville Power Administration; Notice of Filing

September 11, 2002.

Take notice that on July 31, 2002, the Bonneville Power Administration (Bonneville) tendered for filing with the Federal Energy Regulatory Commission (Commission) a proposed adjustment to its ACS-02 Generation Imbalance Service rate pursuant to section 7(a)(2) of the pacific Northwest Electric Power Planning and Conservation Act, 16 U.S.C. 839e(a)(2). Pursuant to Commission regulation 300.21, 18 CFR 399.21, Bonneville seeks final or interim confirmation and approval of the amended Generation Imbalance Service rate effective October 1, 2002. Bonneville seeks rate approval for use during the period October 1, 2002 through September 30, 2003.

Bonneville's proposed Generation Imbalance Service rate exempts wind generation resources from the Generation Imbalances outside the Generation Imbalance kilowatthour penalty rate for imbalances outside the Generation Imbalance Deviation Band when the actual energy delivered from a wind resource in Bonneville's Control Area in a schedule hour is less than the energy scheduled for that hour. When energy delivered by a wind generation resource is less than the energy scheduled, the charge will be Bonneville's incremental cost plus 10%.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 208-1659. Protests and interventions may be filed electronically via the Internet in lieu of paper; see 18 CFR 385.2001(a)(1)(iii) and the instructions on the Commission's web site under the “e-Filing” link. The Commission strongly encourages electronic filings.

Comment Date: September 18, 2002.

Magalie R. Salas,
Secretary.

[FR Doc. 02-23570 Filed 9-16-02; 8:45 am]

BILLING CODE 6717-01-P